DEPARTMENT OF HOUSING AND URBAN DEVELOPMENT

[Docket No. FR-5775-FA-01]

Announcement of Funding Award for Fiscal Year 2015 Authority To Accept Unsolicited Proposals for Research Partnerships

AGENCY: Office of the Assistant Secretary for Policy Development and Research, HUD

ACTION: Announcement of Funding Awards.

SUMMARY: The Consolidated Appropriations Act, 2014, (Pub. L. 113-76, approved January 18, 2014) (FY 2014 appropriation) authorizes the Office of Policy Development and Research (PD&R) to enter into noncompetitive cooperative agreements for research projects that are aligned with PD&R's research priorities and where HUD can gain value by having substantial involvement in the research activity. Research projects must be funded at least 50 percent by philanthropic entities or other Federal, state or local government agencies. This document announces the names, addresses and the amount awarded to entities selected to undertake research projects for PD&R.

FOR FURTHER INFORMATION CONTACT: Madlyn Wohlman Rodriguez, Office of University Partnerships, Department of Housing and Urban Development, 451 Seventh Street SW., Room 8226, Washington, DC 20410, telephone (202) 402-5939. To provide service for persons who are hearing-or-speech-impaired, this number may be reached via TTY by Dialing the Federal Information Relay Service on 800-877-8339 or 202-708-1455. (Telephone number, other than “800” TTY numbers are not toll free).

SUPPLEMENTARY INFORMATION: On March 21, 2014 at 79 FR 15766, HUD announced Authority to Accept Unsolicited Proposals for Research Partnerships. The authority that Congress provided HUD to enter into noncompetitive cooperative agreements for research is a central tool for research collaborations that informs important policy and program objectives. Under this authority, HUD awarded cooperative agreements to nine entities to undertake the following research projects:

Applicant/Address | Project | Amount of award
Region I:
Abt Associates, Inc., 55 Wheeler Street, Cambridge, MA 02138-1168, Contact: Jeffrey Lubell | Evaluation of Compass FSS Programs | $191,396.00
Region II:
Columbia University, 615 West 131st Street, Room 254, Mail Code 872, New York, NY 10027-7922, Contact: Christopher Mayer | Understanding the Market for Reverse Mortgages | 257,288.00
New York University, 665 Broadway Suite 801, New York, 10012, Contact: Ingrid Gould Ellen | High Cost Cities, Gentrification, and Voucher Use: Exploring Access to Quality Homes and Neighborhoods | 102,901.00
Region III:
Old Dominion University, 4111 Monarch Way, Norfolk, VA 23508, Contact: Joshua Behr | Modeling Temporary, Interim and Permanent Housing Demand & Capacity for Medically Fragile and Vulnerable Populations | 175,000.00
Urban Institute, 2100 M Street, Washington, DC 20037-1207, Contact: Susan Popkin | Housing Opportunity and Services Together Demonstration (HOST II) | 201,259.00
Region IV:
Policy and Economic Council, 6409 Fayetteville Road #240, Durham, NC 27713, Contact: Michael Turner | Rental Payment Data: Improving Renter's Financial Security Through Credit Reporting Payment Data | 18,000.00
Region V:
Case Western Reserve University, 10900 Euclid Avenue, Cleveland, OH 44106-7015, Contact: Mark Joseph | HOPE VI Data Compilation and Analysis | 73,848.00
Region VI:
University of Texas San Antonio, One UTSA Circle, San Antonio, TX 78249-1664, Contact: Harriet Romo | Economic Boom in Eagle Ford Shale: Impacts on Accessible and Affordable Housing for Vulnerable Populations | 284,853.00
Region IX:
University of California, San Diego, 9500 Gilman Drive #9034, La Jolla, CA 92093-0934, Contact: Tara Hutchinson | Light Gauge Cold-Formed Steel Framed Building Shake Table Test Program | 200,000.00

Date: November 16, 2015.
Katherine M. O'Regan,
Assistant Secretary for Policy Development and Research.

[FR Doc. 2015-30266 Filed 11-27-15; 8:45 am]

BILLING CODE 4210-67-P